DEPARTMENT OF ENERGY

Federal Energy Regulatory Commission

[Docket No. ER02-11-001, et al.]

Pacific Gas and Electric Company, et al.; Electric Rate and Corporate Regulation Filings

October 9, 2002.

The following filings have been made with the Commission. The filings are listed in ascending order within each docket classification.

1. Pacific Gas and Electric Company

[Docket Nos. ER02-11-001 and ER02-208-001]

Take notice that on October 7, 2002, Pacific Gas and Electric Company (PG&E) tendered for filing a refund report, in connection with the Commission's July 17, 2002 Order issued in the above-referenced Dockets.

Copies of PG&E's filing have been served upon the California Independent System Operator Corporation, the California Electricity Oversight Board, and the California Public Utilities Commission.

Comment Date: October 28, 2002.

2. Commonwealth Edison Company

[Docket No. ER03-21-000]

Take notice that on October 7, 2002, Commonwealth Edison Company submitted to the Federal Energy Regulatory Commission (Commission) a Notice of Cancellation effective August 21, 2002, for Service Agreement No. 556, Second Revised Tariff No. 5 with Duke Energy Cook, LLC.

Notice of the proposed cancellation has been served on Duke Energy Cook, LLC and Illinois Commerce Commission.

Comment Date: October 28, 2002.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-26362 Filed 10-16-02; 8:45 am]

BILLING CODE 6717-01-P